DEPARTMENT OF ENERGY

Federal Energy Regulatory Commission

[Docket No. EL13-53-000]

Tri-State Generation and Transmission Association, Inc. v. Public Service Company of New Mexico; Notice of Complaint

Take notice that on March 13, 2013, pursuant to sections 206 and 306 of the Federal Power Act, 16 U.S.C. 824e and 825e (2006) and Rules 206 and 212 of the Federal Energy Regulatory Commission (Commission), 18 CFR 385.206 and 18 CFR 385.212, Tri-State Generation and Transmission Association, Inc. (Complainant), filed a complaint against the Public Service Company of New Mexico (Respondent or PNM) alleging that, PNM's current transmission rates are unjust and unreasonable. The Complainant requests that the Commission set this matter for hearing, establish a refund effective date as of the date of the complaint, and consolidate the proceeding with Docket Nos. ER13-685-000, ER13-687-000, and ER13-690-000.

The Complainant certifies that copies of the Complaint were serviced on the contacts for the Respondent as listed on the Commission's list of Corporate Officials and parties the Complainant reasonably expects to be affected by this Complaint, including all of the parties that have intervened in Docket Nos. ER13-685-000, ER13-687-000, and ER13-690-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 2, 2013.

Dated: March 15, 2013.
Kimberly D. Bose,
Secretary.

[FR Doc. 2013-06602 Filed 3-21-13; 8:45 am]

BILLING CODE 6717-01-P